DEPARTMENT OF HOMELAND SECURITY

Coast Guard

33 CFR Part 165

[Docket No. USCG-2015-0530]

Safety Zones; Annual Events Requiring Safety Zones in the Captain of the Port Lake Michigan Zone—Michigan City Summerfest Fireworks, Lake Michigan

AGENCY: Coast Guard, DHS.

ACTION: Notice of enforcement of regulation.

SUMMARY: The Coast Guard will enforce the Michigan City Summerfest Fireworks Safety Zone on a portion of Lake Michigan on July 4, 2017. This action is necessary and intended to ensure safety of life and property on navigable waters prior to, during, and immediately after the fireworks display. During the enforcement period listed below, the Coast Guard will enforce restrictions upon, and control movement of, vessels that transit this regulated area with the approval from the Captain of the Port Lake Michigan Zone.

DATES: The regulation in 33 CFR 165.929 will enforce item listed as (e)(35) in Table 165.929 on July 4, 2017 from 8:45 p.m. until 9:45 p.m.

FOR FURTHER INFORMATION CONTACT: If you have questions about this notice of enforcement, call or email LT Lindsay Cook, Waterways Management Division, Marine Safety Unit Chicago, at 630-986-2155, email address Lindsay.N.Cook@uscg.mil.

SUPPLEMENTARY INFORMATION: The Coast Guard will enforce the Michigan City Summerfest listed as item (e)(35) in Table 165.929 of 33 CFR 165.929 from 8:45 p.m. until 9:45 p.m. on July 4, 2017. This action is being taken to provide for the safety of life on a navigable waterway during the fireworks display. Section 165.929 lists many annual events requiring safety zones in the Captain of the Port Lake Michigan Zone. This safety zone encompasses all waters of Michigan City Harbor and Lake Michigan within the arc of a circle with a 1,000 foot radius from the launch site located in position 41°43.700′ N., 086°54.617′ W. During the enforcement period, no vessel may transit this regulated area without approval from the Captain of the Port Lake Michigan or a Captain of the Port Lake Michigan designated representative. Vessels and persons granted permission to enter the safety zone shall obey all lawful orders or directions of the Captain of the Port Lake Michigan, or his or her on-scene representative.

This notice of enforcement is issued under authority of 33 CFR 165.929, Safety Zones; Annual events requiring safety zones in the Captain of the Port Lake Michigan zone and 5 U.S.C. 552(a). In addition to this notice in the Federal Register, the Coast Guard will provide the maritime community with advance notification of this enforcement period via Broadcast Notice to Mariners or Local Notice to Mariners. The Captain of the Port Lake Michigan, or a designated on-scene representative may be contacted via Channel 16, VHF-FM.

Dated: May 23, 2017
A.B. Cocanour,
Captain, U.S. Coast Guard, Captain of the Port Lake Michigan.

[FR Doc. 2017-11486 Filed 6-2-17; 8:45 am]

BILLING CODE 9110-04-P